OFFICE OF GOVERNMENT ETHICS

Agency Information Collection Activities; Information Collection Renewal; Comment Request for OGE Form 278e Executive Branch Personnel Public Financial Disclosure Report

AGENCY: Office of Government Ethics (OGE).

ACTION: Notice and request for comments.

SUMMARY: After publication of this second round notice, the Office of Government Ethics (OGE) intends to request that the Office of Management and Budget (OMB) renew its approval under the Paperwork Reduction Act for an existing information collection, entitled the OGE Form 278e Executive Branch Personnel Public Financial Disclosure Report.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Grant Anderson at the U.S. Office of Government Ethics; telephone: 202-482-9318; TTY: 800-877-8339; Email: Grant.Anderson@oge.gov.

SUPPLEMENTARY INFORMATION:

Title: Executive Branch Personnel Public Financial Disclosure Report.

Agency Form Number: OGE Form 278e.

Abstract: The OGE Form 278 collects information from certain officers and high-level employees in the executive branch for conflicts of interest review and public disclosure. The form is also completed by individuals who are nominated by the President for high-level executive branch positions requiring Senate confirmation and individuals entering into and departing from other public reporting positions in the executive branch. The financial information collected relates to: Assets and income; transactions; gifts, reimbursements and travel expenses; liabilities; agreements or arrangements; outside positions; and compensation over $5,000 paid by a source—all subject to various reporting thresholds and exclusions. The information is collected in accordance with section 102 of the Ethics in Government Act, 5 U.S.C. app. sec. 102, as amended by the Representative Louise McIntosh Slaughter Stop Trading on Congressional Knowledge Act (Pub. L. 112-105) (STOCK Act) and OGE's implementing financial disclosure regulations at 5 CFR part 2634.

In 2013, OGE sought and received approval for the OGE Form 278e, an electronic version of the Form 278, implemented pursuant to the e-filing system mandated under section 11(b) of the STOCK Act. The OGE Form 278e collects the same information as the OGE Form 278. In 2014, OGE sought and received approval to incorporate the OGE Form 278e into its Integrity e-filing application. Integrity has been in use since January 1, 2015, and OGE now requires filers to use a version of the OGE Form 278e rather than the old OGE Form 278. The version of the Form 278e that is produced by Integrity is a streamlined output report format that presents only the filer's inputs in given categories and does not report other categories not selected by the filer. OGE also continues to maintain an Excel version of the form and a 508 compliant PDF version on its website.

A Federal Register Notice with a 60-day comment period soliciting comments on this information collection was published on June 2, 2021 (86 FR 29583). OGE received four responses to that notice, two of which contained several suggestions.

Several of the suggestions addressed the reporting requirements, for example eliminating the requirement to report diversified mutual funds. The financial disclosure requirements are dictated by the Ethics in Government Act (EIGA), 5 U.S.C. app. sec. 102, as amended. Therefore, these suggested changes could not be made without revisions to the EIGA. Several of the suggestions proposed user experience changes to the Integrity system. There is a pre-existing process to collect, analyze, and prioritize proposed changes to the Integrity system through the Integrity Advisory Council (IAC). Agency employees should forward suggestions concerning Integrity to their agency's Integrity administrator or an agency ethics official who can present the suggestions for IAC consideration.

Two suggestions involved the clarity of the form's instructions. One of these suggestions was considered, but it was determined that making the change would actually decrease the overall clarity of the instructions. The other suggestion made a valid point that a particular instruction can be confusing to filers, but offered no specific alternative. Without a specific alternative to consider, OGE is unable to make this change as part of the Paperwork Reduction Act renewal process. OGE intends to study the issue for a future revision.

Finally, several suggestions made by Citizens for Responsibility & Ethics in Washington (CREW) focused on requiring additional personal information from filers, which would increase the burden of the information collection and may implicate privacy concerns. One CREW proposal suggested requiring more information about filers' assets. That idea was previously considered and OGE determined that the resulting burden to the filer would be too high. Some of CREW's suggestions are not directly related to the purpose of the form and/or would require a legislative or regulatory change. To the extent that the proposed changes may assist the government in identifying potential conflicts of interest, they will be considered for a future iteration of the form.

OMB Control Number: 3209-0001.

Type of Information Collection: Extension of a currently approved collection.

Type of Review Request: Regular.

Affected Public: Private citizen Presidential nominees to executive branch positions subject to Senate confirmation; other private citizens who are potential (incoming) Federal employees whose positions are designated for public disclosure filing; those who file termination reports from such positions after their Government service ends; and Presidential and Vice-Presidential candidates.

Estimated Annual Number of Respondents: 3,196.

Estimated Time per Response: 10 hours.

Estimated Total Annual Burden: 31,960 hours.

Request for Comments: OGE is publishing this second round notice of its intent to request paperwork clearance renewal for OGE Form 278e. Public comment is invited specifically on the need for and practical utility of this information collection, the accuracy of OGE's burden estimate, the enhancement of quality, utility and clarity of the information collected, and the minimization of burden (including the use of information technology). The comments will become a matter of public record.

Approved: August 10, 2021.
Emory Rounds,
Director, U.S. Office of Government Ethics.

[FR Doc. 2021-17330 Filed 8-12-21; 8:45 am]

BILLING CODE 6345-03-P